DEPARTMENT OF ENERGY

Federal Energy Regulatory Commission

Combined Notice of Filings # 1

July 3, 2008.

Take notice that the Commission received the following electric corporate filings:

Docket Numbers: EC08-106-000.

Applicants: Wisconsin Power and Light Company, Alliant Energy Resources, Inc., Alliant Energy Neenah, LLC.

Description: Joint application of Wisconsin Power and Light Company, et al. for Order Authorizing Acquisition and Disposition of Jurisdictional Assets Under Section 203 of the FPA.

Filed Date: 06/30/2008.

Accession Number: 20080630-5140.

Comment Date: 5 p.m. Eastern Time on Monday, July 21, 2008.

Take notice that the Commission received the following electric rate filings:

Docket Numbers: ER91-569-042.

Applicants: Entergy Services, Inc.

Description: Entergy Arkansas, Inc et al. report to the Commission of a non-material change in status pursuant to the requirements of Order 652.

Filed Date: 06/30/2008.

Accession Number: 20080702-0009.

Comment Date: 5 p.m. Eastern Time on Monday, July 21, 2008.

Docket Numbers: ER94-1384-034; ER03-1315-006; ER01-457-006; ER02-1485-008; ER03-1109-007; ER03-1108-007; ER00-1803-005; ER99-2329-006; ER04-733-004.

Applicants: Morgan Stanley Capital Group, Inc.; MS Retail Development Corp; Naniwa Energy LLC; Power Contract Finance, LLC; Power Contract Financing II, Inc.; Power Contract Financing II, LLC; South Eastern Electric Development Corp; Utility Contract Funding II, LLC.

Description: Morgan Stanley Capital Group, Inc et al. submit their updated market power analysis and revised tariff sheets.

Filed Date: 06/30/2008.

Accession Number: 20080702-0004.

Comment Date: 5 p.m. Eastern Time on Monday, July 21, 2008.

Docket Numbers: ER97-4281-018; ER99-4357-006; ER99-2161-009; ER99-3000-008; ER00-2810-007; ER99-4359-006; ER99-4358-006; ER99-2168-009; ER99-2162-009; ER00-2807-007; ER99-4355-006; ER99-4356-006; ER00-3160-009; ER00-2313-008; ER02-2032-006; ER02-1396-006; ER02-1412-006; ER99-3637-007; ER99-1712-009; ER00-2808-008; ER00-2809-007.

Applicants: NRG Power Marketing LLC; Norwalk Power LLC; Arthur Kill Power LLC; Astoria Gas Turbines Power LLC; Conemaugh Power LLC; Connecticut Jet Power LLC; DEVON POWER LLC; Dunkirk Power LLC; Huntley Power LLC; Indian River Power LLC; MIDDLETOWN POWER LLC; NEO Freehold-Gen LLC; NRG Energy Center Paxton LLC; NRG New Jersey Energy Sales LLC; NRG Rockford LLC; NRG Rockford II LLC; Montville Power LLC; OSWEGO HARBOR POWER LLC; Somerset Power LLC; Vienna Power LLC; Keystone Power LLC.

Description: Updated Market Power Analysis of NRG Companies, et al.

Filed Date: 06/30/2008.

Accession Number: 20080630-5148.

Comment Date: 5 p.m. Eastern Time on Monday, July 21, 2008.

Docket Numbers: ER98-3184-011; ER00-494-005.

Applicants: TransAlta E. Mktg US; TransAlta Centralia Generation LLC

Description: TransAlta Entities submits updated market power analysis for the Northeast region, which demonstrates that the TransAlta Entities continue to be eligible to make wholesale sales of electric capacity & energy etc.

Filed Date: 06/30/2008.

Accession Number: 20080702-0003.

Comment Date: 5 p.m. Eastern Time on Monday, July 21, 2008.

Docket Numbers: ER98-4400-010.

Applicants: Pittsfield Generating Company, L.P.

Description: Pittsfield Generating Company, LP submits its request for determination of Category Status.

Filed Date: 06/30/2008.

Accession Number: 20080702-0101.

Comment Date: 5 p.m. Eastern Time on Monday, July 21, 2008.

Docket Numbers: ER99-2284-010; ER99-1773-010; ER00-1026-017; ER99-1761-006; ER01-1315-006; ER01-2401-012; ER98-2184-015; ER98-2185-015; ER98-2186-016; ER00-33-012; ER05-442-004; ER98-2185-015; ER01-751-011.

Applicants: AEE 2 LLC; AES CREATIVE RESOURCES LP; Indianapolis Power & Light Company; AES Eastern Energy, LP; AES IRONWOOD LLC; AES RED OAK LLC; AES Huntington Beach, LLC; AES Alamitos, LLC; AES Redondo Beach, LLC; AES Placerita, Inc.; Condon Wind Power, LLC; AES Alamitos, LLC; Mountain View Power Partners, LLC; South Eastern Generating Corporation.

Description: AES Eastern Energy, LP et al. submits an updated market power analysis (Triennial Update) in compliance with Order 697-A and a CD containing the Workpapers of Steve L McDonald.

Filed Date: 06/30/2008.

Accession Number: 20080702-0196; 20080630-4001.

Comment Date: 5 p.m. Eastern Time on Monday, July 21, 2008.

Docket Numbers: ER99-4102-008.

Applicants: Milford Power Company, LLC.

Description: Milford Power Company, LLC submits its market power update in compliance with FERC's order.

Filed Date: 06/27/2008.

Accession Number: 20080702-0113.

Comment Date: 5 p.m. Eastern Time on Friday, July 18, 2008.

Docket Numbers: ER00-1952-006; ER99-2287-003; ER03-802-006; ER01-1784-009; ER99-1248-008; ER03-222-008; ER08-333-002.

Applicants: Black Hills Power, Inc., Las Vegas Cogeneration LP, Fountain Valley Power, LLC, Harbor Cogeneration Company, LLC, Las Vegas Cogeneration II, LLC, Black Hills Wyoming, Inc., Black Hills Colorado, LLC.

Description: Notification of Change in Status of Black Hills Colorado, LLC, et al.

Filed Date: 06/30/2008.

Accession Number: 20080630-5147.

Comment Date: 5 p.m. Eastern Time on Monday, July 21, 2008.

Docket Numbers: ER00-2173-007; ER02-900-009.

Applicants: Northern Indiana Public Service Company; Sugar Creek Power Company.

Description: Notice of Change In Status.

Filed Date: 06/30/2008.

Accession Number: 20080630-5149.

Comment Date: 5 p.m. Eastern Time on Monday, July 21, 2008.

Docket Numbers: ER00-3412-007; ER00-816-005.

Applicants: Ameren Energy Generating Company; Ameren Energy Marketing Company.

Description: Ameren Energy Generating Co et al. notifies FERC that each is a Category 1 seller pursuant to Order 697 and 697-A under ER00-3412 et al.

Filed Date: 06/27/2008.

Accession Number: 20080701-0041.

Comment Date: 5 p.m. Eastern Time on Friday, July 18, 2008.

Docket Numbers: ER01-2569-007; ER98-4652-007; ER02-1175-006; ER01-2568-006.

Applicants: Boralex Livermore Falls LP; Boralex Stratton Energy LP; Boralex Fort Fairfield LP; Boralex Ashland, LP.

Description: Boralex Livermore Falls, LP et al. submits an application for determination of their status as a Category 1 seller pursuant to Order 697.

Filed Date: 06/30/2008.

Accession Number: 20080702-0015.

Comment Date: 5 p.m. Eastern Time on Monday, July 21, 2008.

Docket Numbers: ER01-2398-016.

Applicants: Liberty Electric Power, LLC.

Description: Liberty Electric Power submits its updated market power analysis.

Filed Date: 06/27/2008.

Accession Number: 20080701-0070.

Comment Date: 5 p.m. Eastern Time on Friday, July 18, 2008.

Docket Numbers: ER02-237-011.

Applicants: J. Aron & Company.

Description: J.Aron & Company submits updated market power analysis in compliance with the requirements of section 35.37 of the regulations of the FERC or Commission and the regional schedule set forth in Order 697-A for the Northeast region.

Filed Date: 06/30/2008.

Accession Number: 20080702-0126.

Comment Date: 5 p.m. Eastern Time on Monday, July 21, 2008.

Docket Numbers: ER02-24-010; ER01-560-011; ER01-389-008; ER02-963-009; ER05-524-004; ER02-26-009; ER94-389-028; ER02-1942-007; ER01-557-011; ER01-559-011.

Applicants: Armstrong Energy Limited Ptnshp, LLLP; Big Sandy Peaker Plant, LLC; Calumet Energy Team, LLC; Crete Energy Venture, LLC; Lincoln Generating Facility, LLC; Pleasants Energy, LLC; Tenaska Power Services Co.; Tenaska Virginia Partners, L.P.; University Park Energy, LLC; Wolf Hills Energy, LLC.

Description: Tenaska Energy, Inc, Tenaska Power Fund, LP, TPF II, LP and TPF II-A, LP submits an updated market power analysis and Order 697-A Compliance Filing.

Filed Date: 06/30/2008.

Accession Number: 20080702-0191.

Comment Date: 5 p.m. Eastern Time on Monday, July 21, 2008.

Docket Numbers: ER02-579-007.

Applicants: Capital District Energy Center Cogen.

Description: Application of Capitol District Energy Center Cogeneration Associates for Finding as a Category 1 Seller.

Filed Date: 06/30/2008.

Accession Number: 20080630-5152.

Comment Date: 5 p.m. Eastern Time on Monday, July 21, 2008.

Docket Numbers: ER02-580-008.

Applicants: Pawtucket Power Associates Limited Partnership

Description: Application of Pawtucket Power Associates Limited Partnership for finding as a Category 1 Seller.

Filed Date: 06/30/2008.

Accession Number: 20080630-5156.

Comment Date: 5 p.m. Eastern Time on Monday, July 21, 2008.

Docket Numbers: ER02-1081-004.

Applicants: Indeck-Oswego L.P.

Description: Indeck-Oswego Limited Partnership submits its Order 697 Compliance Filing and application for Category 1 Status.

Filed Date: 06/30/2008.

Accession Number: 20080702-0197.

Comment Date: 5 p.m. Eastern Time on Monday, July 21, 2008.

Docket Numbers: ER02-1884-006.

Applicants: Waterside Power, LLC.

Description: Waterside Power, LLC submits the updated market analysis pursuant to Order 697 and 697-A.

Filed Date: 06/27/2008.

Accession Number: 20080701-0042.

Comment Date: 5 p.m. Eastern Time on Friday, July 18, 2008.

Docket Numbers: ER02-1947-009; ER99-3669-008.

Applicants: Occidental Power Marketing, LP; Occidental Power Services, Inc.

Description: Occidental Power Marketing, LP et al. submits the updated market power analysis and rate schedule revisions pursuant to Order 697 and 697-A.

Filed Date: 06/27/2008.

Accession Number: 20080701-0040.

Comment Date: 5 p.m. Eastern Time on Friday, July 18, 2008.

Docket Numbers: ER02-2536-005.

Applicants: Bank of America, N.A.

Description: Bank of America, NA submits an updated market power analysis, request for treatment as Category 1 Seller, and rate schedule revisions pursuant to Order 697 and 697-A.

Filed Date: 06/30/2008.

Accession Number: 20080702-0006.

Comment Date: 5 p.m. Eastern Time on Monday, July 21, 2008.

Docket Numbers: ER02-2551-004.

Applicants: Cargill Power Markets, LLC.

Description: Cargill Power Markets, LLC requests FERC to determine that Cargill Power Markets is a Category 1 seller of electric capacity and energy pursuant to Order 697.

Filed Date: 06/30/2008.

Accession Number: 20080702-0008.

Comment Date: 5 p.m. Eastern Time on Monday, July 21, 2008.

Docket Numbers: ER03-428-007.

Applicants: ConocoPhillips Company.

Description: ConocoPhillips Company submits an updated market power analysis and tariff revisions.

Filed Date: 06/27/2008.

Accession Number: 20080701-0044.

Comment Date: 5 p.m. Eastern Time on Friday, July 18, 2008.

Docket Numbers: ER03-534-008.

Applicants: INGENCO Wholesale Power LLC.

Description: Triennial Market Power Analysis Filing of Ingenco Wholesale Power, LLC.

Filed Date: 06/30/2008.

Accession Number: 20080630-5048.

Comment Date: 5 p.m. Eastern Time on Monday, July 21, 2008.

Docket Numbers: ER03-719-011; ER03-720-010; ER03-721-010; ER98-830-020.

Applicants: New Athens Generating Company, LLC; New Covert Generating Company, LLC; New Harquahala Generating Company, LLC.

Description: Project Companies submits Notice of Non-Material Change in Status.

Filed Date: 06/27/2008.

Accession Number: 20080701-0043.

Comment Date: 5 p.m. Eastern Time on Friday, July 18, 2008.

Docket Numbers: ER03-775-005; ER00-136-004.

Applicants: FortisOntario Inc.; FortisUS Energy Corporation.

Description: FortisOntario Inc et al submits the joint triennial market power update.

Filed Date: 06/27/2008.

Accession Number: 20080701-0045.

Comment Date: 5 p.m. Eastern Time on Friday, July 18, 2008

Docket Numbers: ER03-845-003.

Applicants: Pinpoint Power, LLC.

Description: Pinpoint Power, LLC requests Category 1 seller classification pursuant to Order 697-A.

Filed Date: 06/27/2008.

Accession Number: 20080701-0046.

Comment Date: 5 p.m. Eastern Time on Friday, July 18, 2008.

Docket Numbers: ER03-879-006; ER03-880-006; ER03-882-006.

Applicants: D.E. Shaw Plasma Trading, LLC; D.E. Shaw & Co. Energy, LLC; D.E. Shaw Plasma Power, LLC.

Description: Shaw Parties submits application for Category 1 Seller Status, in lieu of an updated triennial market power analysis, and revised tariff sheets that incorporate the standardized tariff provision, as applicable, adopted in Order 697.

Filed Date: 06/30/2008.

Accession Number: 20080702-0115.

Comment Date: 5 p.m. Eastern Time on Monday, July 21, 2008.

Docket Numbers: ER04-1153-004.

Applicants: CAM ENERGY TRADING, LLC.

Description: CAM Energy Trading, LLC submits their compliance filing in compliance with Order 697 and application for a Category 1 Status.

Filed Date: 06/30/2008.

Accession Number: 20080702-0098.

Comment Date: 5 p.m. Eastern Time on Monday, July 21, 2008.

Docket Numbers: ER04-222-007.

Applicants: CPV Milford, LLC.

Description: CPV Milford, LLC submits First Revised Sheet 1 et al to FERC Electric Tariff, Original Volume 1.

Filed Date: 06/27/2008.

Accession Number: 20080701-0023.

Comment Date: 5 p.m. Eastern Time on Friday, July 18, 2008.

Docket Numbers: ER04-817-003.

Applicants: Indeck Maine Energy, LLC.

Description: Indeck Maine Energy, LLC submits Order 697 compliance filing and Application for Category 1 Status.

Filed Date: 06/30/2008.

Accession Number: 20080702-0118.

Comment Date: 5 p.m. Eastern Time on Monday, July 21, 2008.

Docket Numbers: ER04-878-003.

Applicants: Equus Power I, L.P.

Description: Equus Power I, LP submits an application for Category 1 Seller Classification and revisions to its market-based rate tariff in compliance with Order 697.

Filed Date: 06/30/2008.

Accession Number: 20080702-0095.

Comment Date: 5 p.m. Eastern Time on Monday, July 21, 2008.

Docket Numbers: ER05-1515-001.

Applicants: Texas Retail Energy, LLC.

Description: Texas Retail Energy, LLC notifies FERC that it is a Category 1 seller pursuant to Order 697.

Filed Date: 06/27/2008.

Accession Number: 20080701-0048.

Comment Date: 5 p.m. Eastern Time on Friday, July 18, 2008.

Docket Numbers: ER05-1420-006; ER03-774-009.

Applicants: Lehman Brothers Commodity Services Inc.; Eagle Energy Partners I, L.P.

Description: Lehman Brothers Commodity Services, Inc and Eagle Energy Partners I, LP submits their petition requesting classification as a Category 1 Seller pursuant to Order 697 and market-based rate compliance filings.

Filed Date: 06/30/2008.

Accession Number: 20080702-0001.

Comment Date: 5 p.m. Eastern Time on Monday, July 21, 2008.

Docket Numbers: ER05-305-004.

Applicants: Pinelawn Power LLC.

Description: Pinelawn Power, LLC submits an application for a Category 1 Seller and revisions to its market-based rate tariff in compliance with Order 697.

Filed Date: 06/30/2008.

Accession Number: 20080702-0092.

Comment Date: 5 p.m. Eastern Time on Monday, July 21, 2008.

Docket Numbers: ER06-1135-002; ER05-723-006; ER02-855-007.

Applicants: EPCOR Energy Marketing (US) Inc.; EPCOR POWER (CASTLETON) LLC; EPDC, Inc.

Description: EPCOR Energy Marketing (US) Inc et al submits an application for determination of their status as a Category 1 seller pursuant to Order 697 and 697-A.

Filed Date: 06/30/2008.

Accession Number: 20080702-0016.

Comment Date: 5 p.m. Eastern Time on Monday, July 21, 2008.

Docket Numbers: ER06-1355-003.

Applicants: Evergreen Wind Power, LLC.

Description: Evergreen Wind Power, LLC requests that the Commission determine that it qualifies as a Category 1 Seller and grant waiver of sixty (60) day prior notice requirement pursuant to Order 697.

Filed Date: 06/30/2008.

Accession Number: 20080702-0099.

Comment Date: 5 p.m. Eastern Time on Monday, July 21, 2008.

Docket Numbers: ER06-1367-004; ER07-239-003; ER99-1714-007; ER06-745-003.

Applicants: BG Dighton Power, LLC; BG ENERGY MERCHANTS, LLC; Lake Road Generating Company, LP; MASSPOWER.

Description: BG Dighton Power, LLC et al submits an updated market power analysis and compliance filing, pursuant to Order 697 and 697-A.

Filed Date: 06/30/2008.

Accession Number: 20080702-0097.

Comment Date: 5 p.m. Eastern Time on Monday, July 21, 2008.

Docket Numbers: ER06-1397-003; ER02-2310-006; ER07-705-003; ER05-463-005.

Applicants: Allegheny Ridge Wind Farm, LLC; Crescent Ridge, LLC; Mendota Hills, LLC; GSG, LLC.

Description: Allegheny Ridge Wind Farm, LLC et al submits an application for determination to qualify for Category 1 status and therefore are exempt from the requirements to submit an update market power analysis pursuant to Order 697.

Filed Date: 06/30/2008.

Accession Number: 20080702-0002.

Comment Date: 5 p.m. Eastern Time on Monday, July 21, 2008.

Docket Numbers: ER06-1409-002; ER06-1407-002; ER06-1408-002; ER06-1413-002; ER08-577-003; ER08-578-003; ER08-579-003.

Applicants: Noble Wethersfield Windpark, LLC,Noble Chateaugay Windpark, LLC,Noble Bellmont Windpark, LLC,Noble Ellenburg Windpark, LLC,Noble Bliss Windpark, LLC,Noble Clinton Windpark I, LLC,Noble Altona Windpark, LLC.

Description: Order No. 697 Updated Market Power Analysis.

Filed Date: 06/30/2008.

Accession Number: 20080630-5058.

Comment Date: 5 p.m. Eastern Time on Monday, July 21, 2008.

Docket Numbers: ER06-1419-002.

Applicants: MeadWestvaco Virginia Corporation.

Description: MeadWestvavo Virginia Corporation's submits triennial market power update and amendments to its market-based rate tariff for submission to the FERC.

Filed Date: 06/30/2008.

Accession Number: 20080702-0122.

Comment Date: 5 p.m. Eastern Time on Monday, July 21, 2008.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-23707 Filed 10-6-08; 8:45 am]

BILLING CODE 6717-01-P